DEPARTMENT OF HEALTH AND HUMAN SERVICES

Administration for Children and Families

Administration on Developmental Disabilities; Help America Vote Act (HAVA) Training and Technical Assistance (T/TA) To Assist Protection and Advocacy Systems (P&As) To Establish or Improve Voting Access for Individuals With Disabilities

Announcement Type: Initial—Grant.

Funding Opportunity Number: HHS-2006-ACF-ADD-DH-0034.

CFDA Number: 93.618.

Due Date for Letter of Intent: March 27, 2006.

Due Date for Applications: April 24, 2006.

Executive Summary: The Administration on Developmental Disabilities (ADD) in the Administration for Children and Families (ACF), U.S. Department of Health and Human Services (HHS), announces the availability of Fiscal Year (FY) 2006 funds for the Help America Vote Act (HAVA) Training and Technical Assistance (T/TA) for Protection and Advocacy Systems (P&As).

The purpose of funds awarded under this announcement is to provide T/TA to P&As in their promotion of full participation in the electoral process for individuals with disabilities, including registering to vote, casting a vote, and accessing polling places; developing proficiency in the use of voting systems and technologies as they affect individuals with disabilities (including blindness) in order to assess the availability and use of such systems and technologies for such individuals. At least one recipient of these funds must provide T/TA for non-visual access.

I. Funding Opportunity Description

Legislative Authority

The Help America Vote Act (HAVA) of 2002, Public Law (Pub. L.) 107-252, Title II, Subtitle D, part 5, section 291.

Description

The Administration on Developmental Disabilities (ADD) in the Administration for Children and Families (ACF), the U.S. Department of Health and Human Services (HHS), announces the availability of Fiscal Year (FY) 2006 funds authorized under the Help America Vote Act (HAVA) of 2002, Public Law 107-252, Title II, Subtitle D, part 5, section 291 (42 U.S.C. 15461). Provisions under this section provide for the award of grants for Training and Technical Assistance (T/TA) to assist Protection and Advocacy Systems (P&As) in:

* Promoting full participation in the electoral process for individuals with disabilities, including registering to vote, casting a vote, and accessing polling places;

* Developing proficiency in the use of voting systems and technologies as they affect individuals with disabilities;

* Demonstrating and evaluating the use of such systems and technologies by individuals with disabilities (including blindness) in order to assess the availability and use of such systems and technologies for such individuals; and

* Providing T/TA for non-visual access. (At least one recipient must provide T/TA assistance in this area.)

Background

HAVA, signed into law by President George W. Bush on October 29, 2002, contains three grant programs that will enable a grantee to establish, expand, and improve access to and participation in the election process by individuals with the full range of disabilities (e.g., visual impairments including blindness, hearing impairments including deafness, the full range of mobility impairments including gross motor and fine motor impairments, emotional impairments, and intellectual impairments). These programs are: (1) Voting Access for Individuals with Disabilities (VOTE), which provides funding to the States and territories for activities to establish and/or improve access to voting for individuals with the full range of disabilities; (2) Protection and Advocacy Systems: Help America to Vote, which provides funding to P&As throughout the United States in support of their efforts to ensure full participation in the electoral process for individuals with disabilities; and (3) T/TA for P&As so they can assist individuals with the full range of disabilities in the voting process from registration to actual voting.

Background on ADD and ADD Programs

ADD is located within ACF, HHS. ADD shares goals with other ACF programs that promote the economic and social well-being of families, children, individuals, and communities.

ADD is the lead agency responsible for planning and administering programs to promote the self-sufficiency and protect the rights of persons with developmental disabilities. ADD administers the Developmental Disabilities Assistance and Bill of Rights Act of 2000 (the DD Act). The DD Act provides for funding to States to provide advocacy, promote consumer oriented systems change and capacity building activities, and facilitate network collaboration. The four programs funded under the DD Act are:

(1) State Councils on Developmental Disabilities that engage in advocacy, capacity building, and systemic change activities;

(2) Protection and Advocacy Systems (P&As) that protect the legal and human rights of individuals with developmental disabilities;

(3) The National Network of University Centers for Excellence in Developmental Disabilities, (UCEDD) that engages in training, community outreach, research, and dissemination activities; and

(4) Projects of National Significance (PNS), that award grants and contracts that promote and increase the independence, productivity, inclusion and integration into the community of persons with developmental disabilities. These projects focus on the most pressing issues for people with developmental disabilities across the country. These projects may involve research, technical assistance, projects which improve supportive living and quality of life opportunities, projects to educate policymakers, and efforts to create interagency Federal collaboration.

In addition to responsibilities under the DD Act, ADD has been given the responsibility by the Secretary of HHS for three grant programs authorized under HAVA, Public Law 107-252. This announcement is for HAVA T/TA for P&As so they can assist individuals with disabilities in the voting process from registration to actual voting.

Objectives

The purpose of funds awarded under this announcement is to provide T/TA for P&As to establish or improve voting access for individuals with disabilities, including registering to vote, casting a vote and accessing polling places. The T/TA grantee(s) may use their award to support training in the use of voting systems and technologies, and to demonstrate and evaluate the use of such systems and technologies, by individuals with disabilities (including blindness) in order to assess the availability and use of such systems and technologies for such individuals. At least one grantee shall use the award to provide T/TA for nonvisual access.

II. Award Information

Funding Instrument Type: Grant.

Anticipated Total Priority Area Funding: $338,115.

Anticipated Number of Awards: 1 to 4.

Ceiling on Amount of Individual Awards: $338,115 per budget period.

Floor on Amount of Individual Awards: $84,529 per budget period.

Average Projected Award Amount: $84,529 per budget period.

Length of Project Periods: 12-month project and budget period.

Awards under this announcement are subject to the availability of funds.

III. Eligibility Information

1. Eligible Applicants:

* Public and State-controlled institutions of higher education.

* Non-profits having a 501(c)(3) status with the IRS, other than institutions of higher education.

* Non-profits that do not have a 501(c)(3) status with the IRS, other than institutions of higher education.

* Private institutions of higher education.

Faith-based and community organizations that meet the statutory eligibility requirements are eligible to apply under this announcement. As stated in the HAVA of 2002, Public Law 107-252, Title II, Subtitle D, part 5, section 291(c)(3), in order for an entity to establish eligibility, the entity must show that it: (A) Is a public or private non-profit entity with demonstrated experience in voting issues for individuals with disabilities; (B) is governed by a board with respect to which the majority of its members are individuals with disabilities or family members of such individuals or individuals who are blind; and (C) submits to the HHS Secretary an application as required under this announcement.

2. Cost Sharing or Matching: None.

3. Other:

D-U-N-S Requirement

All applicants must have a D&B Data Universal Numbering System (D-U-N-S) number. On June 27, 2003, the Office of Management and Budget (OMB) published in the Federal Register a new Federal policy applicable to all Federal grant applicants. The policy requires Federal grant applicants to provide a D-U-N-S number when applying for Federal grants or cooperative agreements on or after October 1, 2003. The D-U-N-S number will be required whether an applicant is submitting a paper application or using the government-wide electronic portal, Grants.gov. A D-U-N-S number will be required for every application for a new award or renewal/continuation of an award, including applications or plans under formula, entitlement, and block grant programs, submitted on or after October 1, 2003.

Please ensure that your organization has a D-U-N-S number. You may acquire a D-U-N-S number at no cost by calling the dedicated toll-free D-U-N-S number request line at 1-866-705-5711 or you may request a number on-line at http://www.dnb.com.

Proof of Non-Profit Status

Non-profit organizations applying for funding are required to submit proof of their non-profit status.

Proof of non-profit status is any one of the following:

* A reference to the applicant organization's listing in the IRS's most recent list of tax-exempt organizations described in the IRS Code.

* A copy of a currently valid IRS tax exemption certificate.

* A statement from a State taxing body, State attorney general, or other appropriate State official certifying that the applicant organization has non-profit status and that none of the net earnings accrue to any private shareholders or individuals.

* A certified copy of the organization's certificate of incorporation or similar document that clearly establishes non-profit status.

* Any of the items in the subparagraphs immediately above for a State or national parent organization and a statement signed by the parent organization that the applicant organization is a local non-profit affiliate.

When applying electronically we strongly suggest that you attach your proof of non-profit status with your electronic application.

Private, non-profit organizations are encouraged to submit with their applications the survey located under “Grant Related Documents and Forms”, “Survey for Private, Non-Profit Grant Applicants”, titled, “Survey on Ensuring Equal Opportunity for Applicants”, at: http://www.acf.hhs.gov/programs/ofs/forms.htm.

Disqualification Factors

Applications that exceed the ceiling amount will be deemed non-responsive and will not be considered for funding under this announcement.

Any application that fails to satisfy the deadline requirements referenced in Section IV.3 will be deemed non-responsive and will not be considered for funding under this announcement.

IV. Application and Submission Information

1. Address To Request Application Package

Margaret Schaefer, U.S. Department of Health and Human Services, Administration on Developmental Disabilities, 370 L'Enfant Promenade, SW., Mail Stop HHH 405-D, Washington, DC 20447. Phone: (202) 690-5962. E-mail: mschaefer@acf.hhs.gov.

2. Content and Form of Application Submission

Letter of Intent

Applicants are strongly encouraged to notify Margaret Schaefer at 202-690-5962 or by e-mail at mschaefer@acf.hhs.gov of their intention to submit an application under this announcement. Please submit the letter of intent by the deadline date listed in Section IV.3.

The letter of intent should include the following information: the number and title of this announcement (required); the name and address of your organization; and your contact person's name, phone number, fax number, and email address.

Letter of intent information will be used to determine the number of expert reviewers needed to evaluate applications. Failure to submit a letter of intent will not impact eligibility to submit an application and will not disqualify an application from competitive review.

The Application

Each application package must include the original and two copies of the complete application. Each copy should be stapled securely (front and back if necessary) in the upper left-hand corner. All pages of the narrative (including charts, tables, maps, exhibits, etc.) must be sequentially numbered, beginning with page one. In order to facilitate handling, please do not use covers, binders, or tabs. Do not include extraneous materials as attachments, such as agency promotion brochures, slides, tapes, film clips, minutes of meetings, survey instruments, or articles of incorporation.

Application Requirements

A complete application consists of the following items in this order:

Application for Federal Assistance (Standard Form (SF) 424);

Budget Information—Non-Construction Programs (SF-424A);

Budget Justification for Section B—Budget Categories;

Proof of designation as a lead agency (See Section III);

Table of Contents;

Proof on Non-Profit Status, if applicable, (See Section III.3);

Copy of the applicant's approved indirect cost rate agreement, if applicable;

Project Summary/Abstract;

Project Narrative;

Any appendices/attachments (e.g., support letters);

Assurances—Non-Construction Programs (SF-424B);

Certification Regarding Lobbying (SF-LLL); and

Certification of the Pro-Children Act of 1994 (Environmental Tobacco Smoke), signature on the application represents certification.

Application Format

Length: Applications, including all forms and attachments, must not exceed 50 pages.

Forms and Certifications

The project description should include all the information requirements described in the specific evaluation criteria outlined in this program announcement under Section V. Application Review Information. In addition to the project description, the applicant needs to complete all of the Standard Forms required as a part of the application process for awards under this announcement.

Applicants seeking financial assistance under this announcement must file the appropriate Standard Forms as described in this section. All applicants must submit SF-424, Application for Federal Assistance. For non-construction programs, applicants must also submit SF-424A, Budget Information and SF-424B, Assurances. For construction programs, applicants must also submit SF-424C, Budget Information and SF-424D, Assurances. The forms may be reproduced for use in submitting applications. Applicants must sign and return the standard forms with their application.

Applicants must furnish prior to award an executed copy of the SF-LLL, Certification Regarding Lobbying, when applying for an award in excess of $100,000. Applicants who have used non-Federal funds for lobbying activities in connection with receiving assistance under this announcement shall complete a disclosure form, if applicable, with their application. Applicants must sign and return the certification with their application.

Applicants must also understand that they will be held accountable for the smoking prohibition included within Public Law (Pub. L.) 103-227, Title XII Environmental Tobacco Smoke (also known as the PRO-KIDS Act of 1994). A copy of the Federal Register notice that implements the smoking prohibition is included with this form. By signing and submitting the application, applicants are providing the necessary certification and are not required to return it. Applicants must make the appropriate certification of their compliance with all Federal statutes relating to nondiscrimination. By signing and submitting the application, applicants are providing the necessary certification and are not required to return it. Complete the standard forms and the associated certifications and assurances based on the instructions on the forms. The forms and certifications may be found at: http://www.acf.hhs.gov/programs/ofs/forms.htm.

Private, non-profit organizations are encouraged to submit with their applications the survey located under “Grant Related Documents and Forms”, “Survey for Private, Non-Profit Grant Applicants”, titled, “Survey on Ensuring Equal Opportunity for Applicants”, at: http://www.acf.hhs.gov/programs/ofs/forms.htm.

Those organizations required to provide proof of non-profit status, please refer to Section III.3.

Please see Section V.1 for instructions on preparing the full project description.

Please reference Section IV.3 for details about acknowledgement of received applications.

Electronic Submission

You may submit your application to us in either electronic or paper format.

To submit an application electronically, please use the http://www.Grants.gov site.

If you use Grants.gov, you will be able to download a copy of the application package, complete it off-line, and then upload and submit the application via the Grants.gov site. ACF will not accept grant applications via email or facsimile transmission.

Important Note: To submit an electronic application, you must complete the organization registration process as well as obtain and register “electronic signature credentials” for the Authorized Organization Representative (AOR). It is important to start this process early, well in advance of the application deadline, since this may take more than five business days.

Please note the following if you plan to submit your application electronically via Grants.gov:

* Electronic submission is voluntary, but strongly encouraged.

* You may access the electronic application for this program on http://www.Grants.gov.

* When you enter the Grants.gov site, you will find information about submitting an application electronically through the site, as well as the hours of operation. We strongly recommend that you do not wait until the application deadline date to begin the application process through Grants.gov. We encourage applicants who submit electronically to submit well before the closing date and time so that if difficulties are encountered an applicant can still send in a hard copy overnight.

* To use Grants.gov, you, as the applicant, must have a D-U-N-S number and register in the Central Contractor Registry (CCR). You should allow a minimum of five days to complete the CCR registration. REMINDER: CCR registration must be updated annually.

* The electronic application is submitted by the AOR. To submit electronically, the AOR must obtain and register electronic signature credentials approved by the organization's E-Business Point of Contact who maintains the organization's CCR registration. Checklists are maintained on http://www.grants.gov/GetStarted.

* You may submit all documents electronically, including all information typically included on the SF-424 and all necessary assurances and certifications.

* Your application must comply with any page limitation requirements described in this program announcement.

* After you electronically submit your application, you will receive an automatic acknowledgement from Grants.gov that contains a Grants.gov tracking number. ACF will retrieve your application from Grants.gov.

* ACF may request that you provide original signatures on forms at a later date.

* You may access the electronic application for this program on http://www.Grants.gov. You may search for the downloadable application package by the Catalog of Federal Domestic Assistance (CFDA) number.

* You will not receive additional point value because you submit a grant application in electronic format, nor will we penalize you if you submit an application in hard copy.

Hard Copy Submission

Applicants that are submitting their application in paper format should submit one original and two copies of the complete application. The original and each of the two copies must include all required forms, certifications, assurances, and appendices, be signed by an authorized representative, have original signatures, and be unbound.

Non-Federal Reviewers

Since ACF will be using non-Federal reviewers in the review process, applicants have the option of omitting from the application copies (not the original) specific salary rates or amounts for individuals specified in the application budget as well as Social Security Numbers, if otherwise required for individuals. The copies may include summary salary information.

If applicants are submitting their application electronically, ACF will omit the same specific salary rate information from copies made for use during the review and selection process.

3. Submission Dates and Times

Due Date for Letter of Intent: March 27, 2006.

Due Date for Applications: April 24, 2006.

Explanation of Due Dates

The closing time and date for receipt of applications is referenced above. Applications received after 4:30 p.m., eastern time, on the closing date will be classified as late and will not be considered in the current competition.

Applicants are responsible for ensuring that applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile or e-mail.

Late Applications

Applications that do not meet the requirements above are considered late applications. ACF shall notify each late applicant that its application will not be considered in the current competition.

Any application received after 4:30 p.m., eastern time, on the deadline date will not be considered for competition.

Applicants using express/overnight mail services should allow two working days prior to the deadline date for receipt of applications. Applicants are cautioned that express/overnight mail services do not always deliver as agreed.

Extension of Deadlines

ACF may extend application deadlines when circumstances such as acts of God (floods, hurricanes, etc.) occur; when there are widespread disruptions of mail service; or in other rare cases. A determination to extend or waive deadline requirements rests with the Chief Grants Management Officer.

Receipt acknowledgement for application packages will not be provided to applicants who submit their package via mail, courier services, or by hand delivery. Applicants will receive an electronic acknowledgement for applications that are submitted via http://www.Grants.gov.

Checklist
What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF-424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | See http://www.acf.hhs.gov/programs/ofs/forms.htm | By date of award.
Letter of Intent | See Section IV.2 | Found in Section IV.2 | March 27, 2006.
Table of Contents | See Section IV.2 | Found in Section IV.2 | By application due date.
SF-424A | See Section IV.2 | See http://www.acf.hhs.gov/programs/ofs/forms.htm | By application due date.
Support Letters | See Section V | Found in Section V | By application due date.
SF-424B | See Section IV.2 | See http://www.acf.hhs.gov/programs/ofs/forms.htm | By application due date.
Proof of Non-Profit Status | See Section III.3 | Found in Section III.3 | By date of award.
Proof of Designation as Lead Agency (if appropriate) | See Sections III and IV.2 | Found in Sections III and IV.2 | By application due date.
Copy of Approved Indirect Cost Rate Agreement | See Section V | Found in Section V | By date of award.

Additional Forms

Private, non-profit organizations are encouraged to submit with their applications the survey located under “Grant Related Documents and Forms”, “Survey for Private, Non-Profit Grant Applicants”, titled, “Survey on Ensuring Equal Opportunity for Applicants”, at: http://www.acf.hhs.gov/programs/ofs/forms.htm.

What to submit | Required content | Required form or format | When to submit
Survey for Private, Non-Profit Grant Applicants | See form | See http://www.acf.hhs.gov/programs/ofs/forms.htm | By application due date.

4. Intergovernmental Review

State Single Point of Contact (SPOC)

This program is covered under Executive Order (EO) 12372, “Intergovernmental Review of Federal Programs,” and 45 CFR part 100, “Intergovernmental Review of Department of Health and Human Services Programs and Activities.” Under the Order, States may design their own processes for reviewing and commenting on proposed Federal assistance under covered programs.

As of August 1, 2005, the following jurisdictions have elected to participate in the EO process: Arkansas, California, Delaware, District of Columbia, Florida, Georgia, Illinois, Iowa, Kentucky, Maine, Maryland, Michigan, Mississippi, Missouri, Nevada, New Hampshire, New York, North Dakota, Rhode Island, South Carolina, Texas, Utah, West Virginia, Wisconsin, American Samoa, Guam, Northern Mariana Islands, Puerto Rico, and U.S. Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations, which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by Federally recognized Indian Tribes, need take no action in regard to EO 12372.

The official list, including addresses, of the jurisdictions that have elected to participate in EO 12372 can be found on the following URL: http://www.whitehouse.gov/omb/grants/spoc.html.

5. Funding Restrictions

Grant awards will not allow reimbursement of pre-award costs.

Construction is not an allowable activity or expenditure under this program.

6. Other Submission Requirements

Please see Sections IV.2 and IV.3 for deadline information and other application requirements.

Submit applications to one of the following addresses:

Submission by Mail

Tim Chappelle, U.S. Department of Health and Human Services, Administration for Children and Families, Office of Grants Management, 370 L'Enfant Promenade, SW., Washington, DC 20447.

Hand Delivery

Tim Chappelle, U.S. Department of Health and Human Services, Administration for Children and Families, Office of Grants Management, 370 L'Enfant Promenade, SW., Washington, DC 20024.

Electronic Submission

Please see Section IV.2 for guidelines and requirements when submitting applications electronically via http://www.Grants.gov.

V. Application Review Information

The Paperwork Reduction Act of 1995 (Pub. L. 104-13)

Public reporting burden for this collection of information is estimated to average 50 hours per response, including the time for reviewing instructions, gathering and maintaining the data needed and reviewing the collection information.

The project description is approved under OMB control number 0970-0139 which expires April 30, 2007.

An agency may not conduct or sponsor, and a person is not required to respond to, a collection of information unless it displays a currently valid OMB control number.

1. Criteria

Part I The Project Description Overview

Purpose

The project description provides the majority of information by which an application is evaluated and ranked in competition with other applications for available assistance. The project description should be concise and complete. It should address the activity for which Federal funds are being requested. Supporting documents should be included where they can present information clearly and succinctly. In preparing the project description, information that is responsive to each of the requested evaluation criteria must be provided. Awarding offices use this and other information in making their funding recommendations. It is important, therefore, that this information be included in the application in a manner that is clear and complete.

General Expectations and Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Part II General Instructions for Preparing a Full Project Description

Introduction

Applicants that are required to submit a full project description shall prepare the project description statement in accordance with the following instructions while being aware of the specified evaluation criteria. The text options give a broad overview of what the project description should include while the evaluation criteria identify the measures that will be used to evaluate applications.

Project Summary/Abstract

Provide a summary of the project description (one page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, describe how the activities that your organization undertakes will promote full participation in the electoral process, including registering to vote, casting a vote, and accessing polling places, for individuals with the full range of disabilities.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the OMB. This clearance pertains to any “collection of information that is conducted or sponsored by ACF.”

Provide a list of organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities that address the project's effectiveness.

Organizational Profiles

Provide information on the applicant organization(s) and cooperating partners, such as: Organizational charts; financial statements; audit reports or statements from Certified Public Accountants/Licensed Public Accountants; Employer Identification Number(s); contact persons and telephone numbers; names of bond carriers; child care licenses and other documentation of professional accreditation; information on compliance with Federal/State/local government standards; documentation of experience in the program area; and, other pertinent information.

If the applicant is a non-profit organization, it should submit proof of its non-profit status in its application. The non-profit agency can accomplish this by providing any one of the following: (a) A reference to the applicant organization's listing in the IRS's most recent list of tax-exempt organizations described in the IRS Code; (b) a copy of a currently valid IRS tax exemption certificate; (c) a statement from a State taxing body, State attorney general, or other appropriate State official certifying that the applicant organization has a non-profit status and that none of the net earnings accrues to any private shareholders or individuals; (d) a certified copy of the organization's certificate of incorporation or similar document that clearly establishes non-profit status; (e) any of the items immediately above for a State or national parent organization and a statement signed by the parent organization that the applicant organization is a local non-profit affiliate.

Budget and Budget Justification

Provide a budget with line item detail and detailed calculations for each budget object class identified on the Budget Information Form (SF-424A or SF-424C). Detailed calculations must include estimation methods, quantities, unit costs, and other similar quantitative detail sufficient for the calculation to be duplicated. If matching is a requirement, include a breakout by the funding sources identified in Block 15 of the SF-424.

Provide a narrative budget justification that describes how the categorical costs are derived. Discuss the necessity, reasonableness, and allocation of the proposed costs.

General

Use the following guidelines for preparing the budget and budget justification. Both Federal and non-Federal resources (when required) shall be detailed and justified in the budget and budget narrative justification. “Federal resources” refers only to the ACF grant funds for which you are applying. “Non Federal resources” are all other non-ACF Federal and non-Federal resources. It is suggested that budget amounts and computations be presented in a columnar format: First column, object class categories; second column, Federal budget; next column(s), non-Federal budget(s); and last column, total budget. The budget justification should be in a narrative form.

Personnel

Description: Costs of employee salaries and wages.

Justification: Identify the project director or principal investigator, if known at the time of application. For each staff person, provide: the title; time commitment to the project in months; time commitment to the project as a percentage or full-time equivalent; annual salary; grant salary; wage rates; etc. Do not include the costs of consultants, personnel costs of delegate agencies, or of specific project(s) and/or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization. (This item does not include costs of consultant travel).

Justification: For each trip show: the total number of traveler(s); travel destination; duration of trip; per diem; mileage allowances, if privately owned vehicles will be used; and other transportation costs and subsistence allowances. Travel costs for key staff to attend ACF-sponsored workshops should be detailed in the budget.

Equipment

Description: “Equipment” means an article of nonexpendable, tangible personal property having a useful life of more than one year and an acquisition cost that equals or exceeds the lesser of: (a) The capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation, shall be included in or excluded from acquisition cost in accordance with the organization's regular written accounting practices.)

Justification: For each type of equipment requested provide: a description of the equipment; the cost per unit; the number of units; the total cost; and a plan for use on the project; as well as use and/or disposal of the equipment after the project ends. An applicant organization that uses its own definition for equipment should provide a copy of its policy, or section of its policy, that includes the equipment definition.

Supplies

Description: Costs of all tangible personal property other than that included under the Equipment category.

Justification: Specify general categories of supplies and their costs. Show computations and provide other information that supports the amount requested.

Contractual

Description: Costs of all contracts for services and goods except for those that belong under other categories such as equipment, supplies, construction, etc. Include third party evaluation contracts, if applicable, and contracts with secondary recipient organizations, including delegate agencies and specific project(s) and/or businesses to be financed by the applicant.

Justification: Demonstrate that all procurement transactions will be conducted in a manner to provide, to the maximum extent practical, open and free competition. Recipients and subrecipients, other than States that are required to use 45 CFR part 92 procedures, must justify any anticipated procurement action that is expected to be awarded without competition and exceeds the simplified acquisition threshold fixed at 41 U.S.C. 403(11), currently set at $100,000.

Recipients might be required to make available to ACF pre-award review and procurement documents, such as requests for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to: Insurance; food; medical and dental costs (noncontractual); professional services costs; space and equipment rentals; printing and publication; computer use; training costs, such as tuition and stipends; staff development costs; and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not be charged as direct costs to the grant. Also, if the applicant is requesting a rate that is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application that contain this information.

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—35 points

Applicants will be evaluated based on the extent to which they present a plan that (1) clearly reflects an understanding of the characteristics, needs and services currently available to the targeted population; (2) provides appropriate services that directly address the needs of the targeted population; (3) is evidence-based and grounded in theory and practice; (4) is appropriate and feasible; and (5) can be reliably evaluated.

* Applications will be evaluated based on the extent to which they outline a plan of action pertaining to the scope and detail on how the proposed work will be accomplished for each project and include a definition of the goals and specific measurable objectives for the project. (8 points).

* Applications will be evaluated based on the extent to which they identify the kinds of data to be collected and maintained, and discuss the criteria to be used to evaluate the results and success of the project. For example, the applicant may provide a description of how the proposed project will be evaluated to determine the extent to which it has achieved its stated goals and objectives; the applicant may also provide a description of methods of evaluation that include the use of performance measures that are clearly related to the intended outcome of the project. (8 points).

* Applications will be evaluated based on the extent to which they describe any unusual features of the project, such as design or technological innovation, reductions in cost or time, or extraordinary social and community involvement. (5 points).

* Applications will be evaluated based on the extent to which they provide for each project, when possible, a quantitative description of the accomplishments to be achieved and, when quantification is not possible, a list of activities, in chronological order, to show the schedule of accomplishments and their target dates. (4 points).

* Applications will be evaluated based on the extent to which they describe the products to be developed during the implementation of the proposed project, such as questionnaires, interview guides, data collection instruments, software, internet applications, reports, article outcomes, evaluation results, and a dissemination plan for conveying the information. (4 points).

* Applications will be evaluated based on the extent to which they cite factors that might accelerate or decelerate the work and provide reasons for taking this approach as opposed to others. (3 points).

* Applications will be evaluated based on the extent to which they list each organization, operator, consultant, or other key individual who will work on the project along with a short description of their contributions. (3 points).

Objectives and Need for Assistance—25 points

Applications will be evaluated based on the extent to which the applicant describes the context of this project, including the geographic location, environment, magnitude and severity of the problem(s) to be solved, and the needs to be addressed.

* Applications will be evaluated based on the extent to which they demonstrate the need for assistance and describe the principal and subordinate objectives for the project. (10 points).

* Applications will be evaluated based on the extent to which they specifically mention any relevant physical, economic, social, financial, institutional, or other problems requiring a solution. (5 points).

* Applications will be evaluated based on the extent to which they provide supporting documentation or other testimonies from concerned interests other than the applicant. (5 points).

* Applications will be evaluated based on the extent to which they provide relevant data based on planning studies. (4 points).

* Applications will be evaluated based on the extent to which they provide relevant maps and other graphic aids. (1 point).

Results Or Benefits Expected—20 points

Applications will be evaluated based on the extent to which they identify the results and benefits to be derived and the anticipated contribution to policy, practice, theory, and research.

* Applications will be evaluated based on the extent to which they clearly describe the project benefits and results as they relate to the objectives of the project. (10 points).

* Applications will be evaluated based on the extent to which they provide information regarding how the project will build on current theory, research, evaluation and best practices to contribute to increased knowledge and understanding of the problems, issues, or effective strategies and practices in T/TA. (10 points).

Organizational Profiles—15 points

Applications will be evaluated based on the extent to which they identify how the applicant organization (or the unit within the organization that will have responsibility for the project) is structured, the types and quantity of services, and the research and management capabilities it possesses. Applications will be evaluated based on the extent to which the applicant demonstrates a capacity to implement the proposed project, including (1) experience with similar projects; (2) experience with the target population; (3) qualifications and experience of the project leadership; (4) commitment to developing and sustaining work among key stakeholders; (5) experience and commitment of any proposed consultants and subcontractors; and (6) appropriateness of the organizational structure, including its management information system, to carry out the project.

* Applications will be evaluated based on the extent to which they identify the background of the project director/principal investigator and key project staff (such as the inclusion of name, address, training, educational background, and other qualifying experience) and the extent to which they demonstrate that the experience of the organization is such that the applicant may effectively and efficiently administer this project, for example, the applicant may provide brief resumes of key project staff. (4 points).

* Applications will be evaluated based on the extent to which they provide a brief background description of how the applicant organization is organized, the types and quantity of services it provides, and the research and management capabilities it possesses. (4 points).

* Applications will be evaluated based on the extent to which they describe the competence of the project team and its demonstrated ability to deliver a final product that is readily comprehensible and usable. (4 points).

* Applications will be evaluated based on the extent to which they demonstrate the direct relationship of the project to the applicant organization such as an organizational chart that illustrates the relationship of the project to the current organization. (3 points).

Budget and Budget Justification—5 points

Applications will be evaluated based on the extent to which the applicant presents a budget with reasonable project costs, appropriately allocated across component areas and sufficient to accomplish the objectives, such as the inclusion of a justification for and documentation of the dollar amount requested.

Applications will be evaluated based upon the extent to which they include a narrative budget justification that describes how the categorical costs are derived and a discussion of the reasonableness and appropriateness of the proposed costs. Line-item allocations and justifications are required for Federal funds.

* Applications will be evaluated based on the extent to which they discuss and justify the costs of the proposed project as being reasonable and programmatically justified in view of the activities to be conducted and the anticipated results and benefits. (3 points).

* Applications will be evaluated based on the extent to which they describe the fiscal controls and accounting procedures that will be used to ensure prudent use, proper disbursement, and accurate accounting of funds received under this program announcement. (2 points).

Note: Applicants have the option of omitting the Social Security Numbers and specific salary rates of the proposed project personnel from the two copies submitted with the original applications to ACF. For purposes of the outside review process, applicants may elect to summarize salary information on the copies of their application. All necessary salary information must, however, appear on the signed original application for ACF.

2. Review and Selection Process

No grant award will be made under this announcement on the basis of an incomplete application.

Each application submitted under this program announcement will undergo a pre-review to determine that (1) the application was received by the closing date (See Section IV.3) and (2) that the amount requested does not exceed the stated ceiling (See Section II). It is necessary that applicants state specifically for which funding announcement they are applying.

Applications will be evaluated and rated by an independent review panel on the basis of specific evaluation criteria. The results of these reviews will assist the ADD Commissioner and program staff in considering competing applications. Reviewers' scores will weigh heavily in funding decisions but will not be the only factors considered. Applications generally will be considered in order of the average scores assigned by reviewers. The evaluation criteria were designed to assess the quality of a proposed project and to determine the likelihood of its success. The evaluation criteria are closely related and are considered as a whole in judging the overall quality of an application. Points are awarded only to applications that are responsive to the evaluation criteria within the context of this program announcement. Non-Federal reviewers will be used for the review process.

Please reference Section IV.2 for information on non-Federal reviewers in the review process.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, sub-award funds, or contracts under this ACF program shall not be used to support inherently religious activities such as religious instruction, worship, or proselytization. Therefore, organizations must take steps to separate, in time or location, their inherently religious activities from the services funded under this program. Regulations pertaining to the Equal Treatment for Faith-Based Organizations, which includes the prohibition against Federal funding of inherently religious activities, can be found at the HHS Web site at http://www.os.dhhs.gov/fbci/waisgate21.pdf.

Faith-based and community organizations may reference the “Guidance to Faith-Based and Community Organizations on Partnering with the Federal Government” at http://www.whitehouse.gov/government/fbci/guidance/index.html.

3. Reporting Requirements

Grantees will be required to submit program progress and financial reports (SF-269 found at http://www.acf.hhs.gov/programs/ofs/forms.htm) throughout the project period. Program progress and financial reports are due 30 days after the reporting period. Final programmatic and financial reports are due 90 days after the close of the project period.

Program Progress Reports: Quarterly.

Financial Reports: Quarterly.

VII. Agency Contacts

Program Office Contact

Margaret Schaefer, Administration for Children and Families, Administration on Developmental Disabilities, 370 L'Enfant Promenade, SW., Mail Stop HHH 405-D, Washington, DC 20447. Phone: 202-690-5962. Fax: 202-205-8037. E-mail: mschaefer@acf.hhs.gov.

Grants Management Office Contact

Tim Chappelle, Administration for Children and Families, Office of Grants Management, 370 L'Enfant Promenade, SW., Washington, DC 20447. Phone: 202-401-4855. E-mail: tichappelle@acf.hhs.gov.

VIII. Other Information

Additional information about this program and its purpose can be located on the following Web sites: http://www.acf.hhs.gov/programs/add and http://www.nass.org.

Dated: February 13, 2006.
Patricia A. Morrissey,
Commissioner, Administration on Developmental Disabilities.

[FR Doc. E6-2515 Filed 2-22-06; 8:45 am]

BILLING CODE 4184-01-P